DEPARTMENT OF COMMERCE

National Oceanic and Atmospheric Administration

RIN 0648-XR68

Pacific Fishery Management Council; Public Meeting

AGENCY: National Marine Fisheries Service (NMFS), National Oceanic and Atmospheric Administration (NOAA), Commerce.

ACTION: Notice of a public meeting.

SUMMARY: The Pacific Fishery Management Council's (Council) Groundfish Management Team (GMT) will hold a working meeting, which is open to the public.

DATES: The GMT meeting will be held Monday, October 5, 2009, from 1 p.m. until business for the day is completed. The GMT meeting will reconvene Tuesday, October 6 through Friday, October 9, from 8:30 a.m. until business for the day is completed.

ADDRESSES: The GMT meeting will be held in Portland, OR at a location to be determined.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The primary purpose of the GMT working meeting is to develop a range of 2011-2011 annual catch limits for groundfish species from new stock assessments and rebuilding analyses, consider recommendations for 2011-12 management measures, consider recommendations for inseason adjustments to 2010 groundfish fisheries, consider recommendations for 2010 exempted fishing permits, and consider draft Groundfish Fishery Management Plan (FMP) Amendment 23 provisions and analyses in contemplation for adding new National Standard 1 guidelines to the FMP. The GMT may also address other assignments relating to groundfish management. No management actions will be decided by the GMT. The GMT's role will be development of recommendations for consideration by the Council at its November meeting in Costa Mesa, CA.

Although non-emergency issues not contained in the meeting agenda may come before the GMT for discussion, those issues may not be the subject of formal GMT action during this meeting. GMT action will be restricted to those issues specifically listed in this notice and any issues arising after publication of this notice that require emergency action under Section 305(c) of the Magnuson-Stevens Fishery Conservation and Management Act, provided the public has been notified of the GMT's intent to take final action to address the emergency.

Special Accommodations

This meeting is physically accessible to people with disabilities. Requests for sign language interpretation or other auxiliary aids should be directed to Ms. Carolyn Porter at (503) 820-2280 at least 5 days prior to the meeting date.

Dated: September 15, 2009.
Tracey L. Thompson,
Acting Director, Office of Sustainable Fisheries, National Marine Fisheries Service.

[FR Doc. E9-22490 Filed 9-17-09; 8:45 am]

BILLING CODE 3510-22-S